DEPARTMENT OF ENERGY

Federal Energy Regulatory Commission

Combined Notice of Filings #4

Take notice that the Commission received the following electric corporate filings:

Docket Numbers: EC09-78-000; EC09-78-001.

Applicants: Otter Tail Power Company, Cascade Investment, L.L.C.

Description: Notice of Non-Consummation and Request for Withdrawal of Authorizing Order by Cascade Investment, L.L.C. and Otter Tail Power Company.

Filed Date: 11/02/2011.

Accession Number: 20111102-5171.

Comment Date: 5 p.m. ET on 11/22/2011.

Docket Numbers: EC12-30-000.

Applicants: Michigan Electric Transmission Company, LLC.

Description: Application of Michigan Electric Transmission Company, LLC for Approval of Acquisition of Transmission Assets under Section 203 of the Federal Power Act.

Filed Date: 11/15/2011.

Accession Number: 20111115-5127.

Comment Date: 5 p.m. ET on 12/6/2011.

Take notice that the Commission received the following electric rate filings:

Docket Numbers: ER10-3058-001; ER10-3059-001; ER10-3065-001; ER10-3066-001.

Applicants: Pinelawn Power, LLC.

Description: Supplemental Information of J-POWER North America Holdings Co., Ltd.

Filed Date: 11/15/2011.

Accession Number: 20111115-5111.

Comment Date: 5 p.m. ET on 12/6/2011.

Docket Numbers: ER12-414-000.

Applicants: PacifiCorp.

Description: Termination of Brigham City Construction Agreement to be effective 2/6/2012.

Filed Date: 11/15/2011.

Accession Number: 20111115-5095.

Comment Date: 5 p.m. ET on 12/6/2011.

Docket Numbers: ER12-415-000.

Applicants: El Paso Marketing Company, L.L.C.

Description: Notice of succession to be effective 11/16/2011.

Filed Date: 11/15/2011.

Accession Number: 20111115-5103.

Comment Date: 5 p.m. ET on 12/6/2011.

Docket Numbers: ER12-416-000.

Applicants: New York Independent System Operator, Inc.

Description: FID 209 Errata RS 1 MST 4.5 to be effective 11/8/2010.

Filed Date: 11/15/2011.

Accession Number: 20111115-5113.

Comment Date: 5 p.m. ET on 12/6/2011.

Docket Numbers: ER12-417-000.

Applicants: Mesquite Solar 1, LLC.

Description: Mesquite Solar 1 LLC Shared Facilities Agreement to be effective 11/16/2011.

Filed Date: 11/15/2011.

Accession Number: 20111115-5132.

Comment Date: 5 p.m. ET on 12/6/2011.

Docket Numbers: ER12-418-000.

Applicants: Mesquite Power, LLC.

Description: Mesquite Power, LLC Concurrence to Shared Facilities Agreement to be effective 11/16/2011.

Filed Date: 11/15/2011.

Accession Number: 20111115-5140.

Comment Date: 5 p.m. ET on 12/6/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2011.
Nathaniel J. Davis, Sr.,
Deputy Secretary.

[FR Doc. 2011-30114 Filed 11-21-11; 8:45 am]

BILLING CODE 6717-01-P